DEPARTMENT OF THE TREASURY

Bureau of Engraving and Printing

Privacy Act of 1974, as Amended; System of Records

AGENCY: Bureau of Engraving and Printing (BEP), Department of the Treasury.

ACTION: Notice of proposed Privacy Act system of records and request for comments.

SUMMARY: In accordance with the Privacy Act of 1974, 5 U.S.C. 552a, the Department of the Treasury, Bureau of Engraving and Printing, proposes to establish a new Privacy Act system of records titled “Treasury/BEP .050—Use of Shredded U.S. Currency System”.

DATES: Comments must be received no later than April 16, 2015. This new Privacy Act system of records will be effective April 27, 2015, unless comments are received which result in a contrary determination.

ADDRESSES: Comments should be sent to Leslie J. Rivera-Pagán, Attorney/Adviser—Privacy Officer, Office of the Chief Counsel, U.S. Department of the Treasury, Bureau of Engraving and Printing, Room 419-A, 14th & C Streets SW., Washington, DC 20228, Attention: Revisions to Privacy Act Systems of Records. Comments can also be faxed to (202) 874-2951 or emailed to Leslie.Rivera-Pagan@bep.gov. For faxes and emails, please place “Revisions to SORN Treasury/BEP .050—Use of Shredded U.S. Currency System” in the subject line. Comments will be made available for public inspection upon written request. The BEP will make such comments available for public inspection and copying at the above listed location, on official business days between 9:00 a.m. and 5:00 p.m. eastern time. Persons wishing to review the comments must request an appointment by telephoning (202) 874-2500. All comments received, including attachments and other supporting documents, are part of the public record and subject to public disclosure. You should submit only information that you wish to make available publicly. All comments received will be posted without change to http://www.regulations.gov, including any personal information provided.

FOR FURTHER INFORMATION CONTACT: Leslie J. Rivera-Pagán at (202) 874-2500 or Leslie.Rivera-Pagan@bep.gov.

SUPPLEMENTARY INFORMATION: In accordance with the Privacy Act of 1974, 5 U.S.C. 552a, the Department of the Treasury, Bureau of Engraving and Printing proposes to establish a new system of records titled, “Treasury/BEP .050—Use of Shredded U.S. Currency System.”

The new proposed system of records is published in its entirety below.

Dated: February 24, 2015.
Helen Goff Foster,
Deputy Assistant Secretary for Privacy, Transparency, and Records.

TREASURY/BEP .050

System name:

Use of Shredded U.S. Currency System—Treasury/BEP.

System location:

Bureau of Engraving and Printing, Office of Compliance-Destruction Standards and Compliance Division, Eastern Currency Facility, Room 321-A, 14th & C Streets SW., Washington, DC 20228.

Categories of individuals covered by the system:

Individuals requesting approval to use shredded U.S. currency for artistic and commercial purposes.

Categories of records in the system:

• Request;

• Name;

• Home Address;

• Home Phone Number;

• Personal Cell Phone Number;

• Email Address;

• Name of Business;

• Business Address;

• Business Phone Number;

• Business Email Address;

• Date of Request; and

• Letter Approving/Disapproving Request.

Authority for maintenance of the system:

12 U.S.C. 413, 31 U.S.C. 5120, Treasury Order 135-01, “Delegation of Authority and Responsibility for Destruction of Security Items,” dated February 16, 2000, and Treasury Directive TD 19-06, “Delegation to the Director, Bureau of Engraving and Printing, for the Redemption and Destruction of Unfit Currency and the Destruction of Waste and Spoiled Items,” dated February 29, 2000.

Purpose(s):

The purpose of this system of records is to establish paper-based files and an electronic database that facilitates the processing of requests for use of shredded U.S. currency for artistic or commercial purposes. Records are for internal purposes only and will facilitate the approval process performed by the Chief, Office of Compliance.

Routine uses of records maintained in the system, including categories of users and the purposes of such uses:

These records may be disclosed to appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records are stored on electronic media and hard copy. Paper records are maintained in locked cabinets in a locked room.

Retrievability:

Records are retrieved by name and date when the request was received.

Safeguards:

Access to electronic and paper records is limited to authorized personnel in the BEP Office of Compliance, Eastern Currency Facility in Washington, DC as determined by access controls that limit privileges granted to users based on their need to know to perform daily job functions.

Retention and disposal:

Records are retained and disposed in accordance with the Bureau of Engraving and Printing Agency Specific Records Schedule N1/318/04/16 as required by the National Archives and Records Administration.

System manager(s) and address:

Chief, Bureau of Engraving and Printing, Eastern Currency Facility, Office of Compliance, Room 321-11A, Destruction Standards and Compliance Division, 14th & C Streets SW., Washington, DC 20228.

Notification procedure:

Individuals seeking to determine whether this system of records contains their information should address written inquiries to the Disclosure Officer, Department of the Treasury, Bureau of Engraving and Printing, Office of the Chief Counsel, 14th & C Streets SW., Room 419-A, Washington, DC 20228.

Record access procedures:

See, “Notification Procedure” above.

Contesting record procedures:

See, “Notification Procedure” above.

Record source categories:

The information contained in the system originates from the individual requesting approval for use of shredded U.S. currency.

Exemptions claimed for the system:

None.

[FR Doc. 2015-06023 Filed 3-16-15; 8:45 am]

BILLING CODE 4840-01P